DEPARTMENT OF AGRICULTURE

Forest Service

Lake County Resource Advisory Committee

AGENCY: Forest Service, USDA.

ACTION: Notice of meeting.

SUMMARY: The Lake County Resource Advisory Committee (RAC) will hold a meeting.

DATES: The meeting will be held on September 10, 2009, from 3 p.m. to 5 p.m.

ADDRESSES: The meeting will be held at the Lake County Board of Supervisor's Chambers at 255 North Forbes Street, Lakeport or Conference Room C.

FOR FURTHER INFORMATION CONTACT: Debbie McIntosh, Committee Coordinator, USDA. Mendocino National Forest, Upper Lake Ranger District, 10025 Elk Mountain Road, Upper Lake, CA 95485. (707) 275-2361: E-mail dmcintosh@fs.fed.us.

SUPPLEMENTARY INFORMATION: Agenda items to be covered include: (1) Roll Call/Establish Quorum; (2) Review Minutes from the May 14, 2009 Meeting; (3) Project Review and Discussion; (4) Recommend Projects/Vote; (5) Discuss Project Cost Accounting USFS/County of Lake; (6) Set Next Meeting Date; (7) Public Comment Period: Public input opportunity will be provided and individuals will have the opportunity to address the Committee at that time; (8) Adjourn.

Dated: August 11, 2009.
Lee D. Johnson,
Designated Federal Officer.

[FR Doc. E9-20066 Filed 8-20-09; 8:45 am]

BILLING CODE 3410-11-M